DEPARTMENT OF HEALTH AND HUMAN SERVICES

Administration for Community Living

Agency Information Collection Activities; Proposed Collection; Comment Request; Assessing ACL's American Indian, Alaskan Natives and Native Hawaiian Programs (OMB Control Number 0985-0059)

AGENCY: Administration for Community Living, HHS.

ACTION: Notice.

SUMMARY: The Administration for Community Living (ACL) is providing an opportunity for the public to comment on the proposed collection of information listed above. Under the Paperwork Reduction Act of 1995 (PRA), Federal agencies are required to publish a notice in the Federal Register concerning each proposed collection of information, including each proposed extension of an existing collection of information, and to allow 60 days for public comment in response to the notice. This notice solicits comments on a proposed extension without change information collection and solicits comments on the information collection requirements related to the project titled Assessing ACL's American Indian, Alaskan Natives and Native Hawaiian Programs (OMB Control Number 0985-0059).

DATES: Comments on the collection of information must be submitted electronically by 11:59 p.m. (EST) or postmarked by October 17, 2023.

ADDRESSES: Submit electronic comments on the collection of information to: Administration for Community Living at evaluation@acl.hhs.gov. Submit written comments on the collection of information to the Administration for Community Living, Washington, DC 20201, Attention: Administration for Community Living.

FOR FURTHER INFORMATION CONTACT: The Office of Performance and Evaluation, Administration for Community Living evaluation@acl.hhs.gov.

SUPPLEMENTARY INFORMATION: Under the Paperwork Reduction Act, Federal agencies must obtain approval from the Office of Management and Budget (OMB) for each collection of information they conduct or sponsor. A collection of information includes agency requests or requirements that members of the public submit reports, keep records, or provide information to a third party. The PRA requires Federal agencies to provide a 60-day notice in the Federal Register concerning each proposed collection of information, including each proposed extension of an existing collection of information, before submitting the collection to OMB for approval. To comply with this requirement, ACL is publishing a notice of the proposed collection of information set forth in this document.

With respect to the following collection of information, ACL invites comments on our burden estimates or any other aspect of this collection of information, including:

(1) whether the proposed collection of information is necessary for the proper performance of ACL's functions, including whether the information will have practical utility;

(2) the accuracy of ACL's estimate of the burden of the proposed collection of information, including the validity of the methodology and assumptions used to determine burden estimates;

(3) ways to enhance the quality, utility, and clarity of the information to be collected; and

(4) ways to minimize the burden of the collection of information on respondents, including using automated collection techniques when appropriate, and other forms of information technology.

The Administration for Community Living (ACL) is requesting approval for data collection associated with the project entitled Assessing ACL's American Indian, Alaska Natives, and Native Hawaiian Programs (Older Americans Act [OAA] Title VI; short title: Assessment of the Title VI Programs). OAA Title VI establishes grants to Native Americans for nutrition services, supportive services, and family caregiver support services. The purpose of Title VI is “to promote the delivery of supportive services, including nutrition services, to American Indians, Alaskan Natives, and Native Hawaiians that are comparable to services provided under Title III” (42 U.S.C. 3057), which provides nutrition, caregiver and supportive services to the broader U.S. population. Title VI is comprised of three parts; Part A provides nutrition and supportive services to American Indians and Alaska Natives, Part B provides nutrition and supportive services to Native Hawaiians, and Part C provides caregiver services to any programs that have Part A/B.

The previous data collection for this project entailed a series of interviews and focus groups with Title VI program staff, elders, and caregivers.

American Indian, Alaska Native, and Native Hawaiian (AI/AN/NH) populations experience significant health and socioeconomic disparities compared to the rest of the U.S. population. The AI/AN population has the highest rate of disabilities and the lowest life expectancy compared to the averages for the overall population (Centers for Disease Control and Prevention [CDC], 2008; Goins, Moss, Buchwald, & Guralnik, 2007). While 18% of the non-Hispanic white population is 65 years or older, just 8% of Native Hawaiians and 10% of the AI/AN population is 65 years or older (AoA, 2015). However, as overall life expectancy increases, the proportion of older AI/AN adults is expected to increase. By 2050, the percentage of non-Hispanic white adults is expected to decrease by 20%, while the population of older minority population adults, including AI/AN/NH, is expected to increase by 110% (AoA, 2015; CDC, 2013). For AI/AN populations, this translates to a 93% increase in the number of older adults.

In addition, the population aged 75 and older needing long-term care is expected to double by the year 2030 (AoA, 2015; CDC 2013; Goins et al., 2007).

In fiscal year 2023, ACL awarded 291 Title VI three-year grants to tribes/tribal organizations elders for the provision of nutrition and supportive services, and a portion of awardees also received funds for the Native American Caregiver Support Program. The Assessment of the Title VI Programs will examine the effects of the program on:

1. Older Indians, their families and caregivers

2. Tribal communities

3. Intergenerational connections in tribal communities

4. Management of the Title VI program

The Need for Continuous Assessment

Assessing and evaluating Title VI Programs is authorized under Section 206(a, c) of Title II of the OAA, which directs ACL to “. . . measure and evaluate the impact of all programs authorized by this Act, their effectiveness in achieving stated goals in general, and in relation to their cost, their impact on related programs, their effectiveness in targeting for services under this Act unserved older individuals with greatest economic need (including low-income minority individuals and older individuals residing in rural areas) and unserved older individuals with greatest social need (including low-income minority individuals and older individuals residing in rural areas), and their structure and mechanisms for delivery of services, including, where appropriate, comparisons with appropriate control groups composed of persons who have not participated in such programs.”

Consistent with requirements of the Government Performance Results Modernization Act (GPRMA), ACL's Administration on Aging (AoA) integrates its strategic priorities and plans with performance measurement criteria. The AoA has three categories of performance measures: improve program efficiency, improve client outcomes, and improve effective targeting of vulnerable elders. Through continuous assessment, ACL seeks a better understanding of key programs, such as the programs under Title VI of the OAA for AI/AN/NH.

This project seeks to add a qualitative data collection activity to do follow-up interviews with grantees a to understand which components of the technical assistance they have received have been the most useful for them.

Exhibit 1 provides an overview of the process for assessing the Title VI Program data collection activity.

Exhibit 1

The Program Staff Follow-up Interviews will assess how the Title VI Programs have been utilizing and implementing the Technical Assistance they have received from the contractor around the practice of evaluation. Data will include how evaluation practice is being implemented and on what occurring basis, as well as perceptions of met and unmet needs around evaluation; and barriers to using evaluation. Up to 2 local staff (e.g., program director and evaluation staff person) will participate in each interview. The interviews will be conducted via telephone in Year 4 with up to 12 evaluation grantees, for a maximum of 24 participants, and will take 60 minutes to complete. See Attachment A (Title VI Program Staff Consent Form and Interview Guide).

The proposed data collection tools may be found on the ACL website for review at https://www.acl.gov/about-acl/public-input.

Estimated Program Burden
Respondent type | Form name | Number of annual respondents | Number of responses per respondent | Average burden per response (in hours) | Annual burden hours
Program director | Program staff follow-up interview guide | 80 | 1 | 1 | 80

Dated: August 14, 2023.
Alison Barkoff,
Senior official performing the duties of the Administrator and the Assistant Secretary for Aging.

[FR Doc. 2023-17788 Filed 8-17-23; 8:45 am]

BILLING CODE 4154-01-P